DEPARTMENT OF HEALTH AND HUMAN SERVICES

Substance Abuse and Mental Health Services Administration

Office for Women's Services; Notice of Meeting

Pursuant to Public Law 92-463, notice is hereby given of the meeting of the Advisory Committee for Women's Services of the Substance Abuse and Mental Health Services Administration (SAMHSA) in April 2003.

The meeting of the Advisory Committee for Women's Services will include welcoming three new members to the Committee, discussion involving SAMHSA's Priorities, Programs and Principles Matrix, activities of the Women, Youth and Families Task Force; and other substance abuse and mental health issues affecting women.

A summary of the meeting and/or a roster of committee members may be obtained from: Nancy P. Brady, Executive Secretary, Advisory Committee for Women's Services, Office for Women's Services, SAMHSA, Parklawn Building, Room 12C-26, 5600 Fishers Lane, Rockville, Maryland 20857, Telephone: (301) 443-1135.

Attendance by the public will be limited to space available. Public comments are welcome. Please communicate with the individual listed as contact below to make arrangements to comment or to request special accommodations for persons with disabilities.

Substantive information may be obtained from the contact whose name and telephone number is listed below.

Committee Name: Advisory Committee for Women's Services.

Meeting Date/Time: Open: April 11, 2003, 9 a.m.-5 p.m.

Place: Hyatt Regency Bethesda, One Bethesda Metro Center, Bethesda, MD 20814.

Contact: Nancy P. Brady, Executive Secretary, 5600 Fishers Lane, Parklawn Building, Room 12C-26, Rockville, MD 20857. Telephone: (301) 443-1135; FAX: (301) 594-6159 and e-mail: nbrady@samhsa.gov.

Dated: March 24, 2003.
Toian Vaughn,
Committee Management Officer, Substance Abuse and Mental Health Services Administration.

[FR Doc. 03-7538 Filed 3-28-03; 8:45 am]

BILLING CODE 4162-20-P